DEPARTMENT OF COMMERCE

Patent and Trademark Office

Submission for OMB Review; Comment Request

The United States Patent and Trademark Office (USPTO) will submit to the Office of Management and Budget (OMB) for clearance the following proposal for collection of information under the provisions of the Paperwork Reduction Act (44 U.S.C. Chapter 35).

Agency: United States Patent and Trademark Office (USPTO), Department of Commerce.

Title: Electronic Response to Office Action and Preliminary Amendment Forms.

Form Number(s): PTO-1771, PTO-1882, PTO-1930, PTO-1957 and PTO-1966.

Agency Approval Number: 0651-0050.

Type of Request: Revision of a currently approved collection.

Burden: 27,240 hours annually, including 495 hours per year for Post Publication Amendments and 1,092 hours per year for the Response to Suspension Inquiry or Letter of Suspension.

Number of Respondents: 158,300 responses per year, including 1,800 responses per year for Post Publication Amendments and 5,600 responses per year for the Response to Suspension Inquiry or Letter of Suspension.

Avg. Hours Per Response: The USPTO estimates that the public will require approximately 10 to 18 minutes (0.17 to 0.30 hours) to prepare and submit the information in this collection. Completion times may vary, depending upon the nature and amount of information requested in a particular Office Action.

Needs and Uses: This collection of information is required by the Trademark Act, 15 U.S.C. 1051 et seq., which provides for the Federal registration of trademarks, service marks, collective trademarks and service marks, collective membership marks, and certification marks. Individuals and businesses that use or intend to use such marks in commerce may file an application to register their marks with the United States Patent and Trademark Office (USPTO). In some cases, the USPTO may issue an Office Action to an applicant in order to request additional information that is required before a mark can be registered. Applicants may also supplement their applications by providing additional information voluntarily.

The USPTO is proposing to add two forms to this information collection, Post Publication Amendment (PTO-1711) and Response to Suspension Inquiry or Letter of Suspension (PTO-1822). Applicants may file a Post Publication Amendment in order to submit a proposed amendment to an application that has already been approved for publication by the examining attorney. If an applicant receives a Suspension Inquiry or Letter of Suspension from the USPTO, the applicant may use the proposed response form to file a reply. Applicants may submit the two proposed new forms to the USPTO electronically through the USPTO Web site or submit the required information for the amendment or response to the USPTO on paper.

Affected Public: Individuals or households, businesses or other for-profits, and not-for-profit institutions.

Frequency: On occasion.

Respondent's Obligation: Required to obtain or retain benefits.

OMB Desk Officer: David Rostker, (202) 395-3897.

Copies of the above information collection proposal can be obtained by any of the following methods:

E-mail: Susan.Fawcett@uspto.gov. Include “0651-0050 copy request” in the subject line of the message.

Fax: 571-273-0112, marked to the attention of Susan Fawcett.

Mail: Susan K. Fawcett, Records Officer, Office of the Chief Information Officer, Customer Information Services Group, Public Information Services Division, United States Patent and Trademark Office, P.O. Box 1450, Alexandria, VA 22313-1450.

Written comments and recommendations for the proposed information collection should be sent on or before December 28, 2007 to David Rostker, OMB Desk Officer, Room 10202, New Executive Office Building, 725 17th Street, NW., Washington, DC 20503.

Dated: November 21, 2007.
Susan K. Fawcett,
Records Officer, USPTO, Office of the Chief Information Officer, Customer Information Services Group, Public Information Services Division.

[FR Doc. E7-23115 Filed 11-27-07; 8:45 am]

BILLING CODE 3510-16-P